FEDERAL COMMUNICATIONS COMMISSION

47 CFR Part 73

[DA 03-3919, Docket No. 02-252, RM-10316]

Radio Broadcasting Services; Rocksprings, TX

AGENCY: Federal Communications Commission.

ACTION: Proposed rule, dismissal.

SUMMARY: This document dismisses a pending petition for rulemaking to add an FM allotment in Rocksprings, Texas. The Audio Division had requested comment on a petition filed by Katherine Pyeatt, proposing the allotment of Channel 263A at Rocksprings, Texas. See 67 FR 57,203, September 9, 2002. Petitioner filed comments supporting the requested allotment, but subsequently submitted a request for dismissal of her proposal. This document dismisses the petition for failure to demonstrate a continuing interest in the requested allotment. The document therefore terminates the proceeding.

ADDRESSES: Federal Communications Commission, Washington, DC 20554.

FOR FURTHER INFORMATION CONTACT: Deborah A. Dupont, Media Bureau (202) 418-7072.

SUPPLEMENTARY INFORMATION: This is a synopsis of the Commission's Report and Order, MB Docket No. 02-252, adopted December 12, 2003, and released December 16, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893, facsimile (202) 863-2898, or via e-mail qualexint@aol.com.

Federal Communications Commission.
John A. Karousos,
Assistant Chief, Audio Division, Media Bureau.

[FR Doc. 04-114 Filed 1-5-04; 8:45 am]

BILLING CODE 6712-01-P